DEPARTMENT OF DEFENSE

Department of the Army

Performance Review Board Membership

AGENCY: Department of the Army, DoD.

ACTION: Amendment.

SUMMARY: The notice of the names of members of a Performance Review Board for the Department of the Army published in the Federal Register on November 17, 2008 (72 FR 60662) has added four additional members.

DATES: Effective Date: November 18, 2008.

FOR FURTHER INFORMATION CONTACT: Constance B. Ray, Civilian Senior Leader Management Office, 140 Army Pentagon, Washington, DC 20310-0140.

SUPPLEMENTARY INFORMATION: Section 4314(c)(1) through (5) of Title 5, U.S.C., requires each agency to establish, in accordance with regulations, one or more Senior Executive Service performance review boards. The boards shall review and evaluate the initial appraisal of senior executives' performance by supervisors and make recommendations to the appointing authority or rating official relative to the performance of these executives.

The members of the Department of the Army Performance Review Boards are:

1. Major General Don T. Riley, Deputy Commanding General and Deputy Chief of Engineers, United States Army Corps of Engineers.

2. Major General Jeffrey J. Dorko, Deputy Commanding General for Military and International Operations, United States Army Corps of Engineers.

3. Ms. Jeannie A. Davis, Director of Human Resources, United States Army Corps of Engineers.

4. Mr. Wesley C. Miller, Director of Resources, United States Army Corps of Engineers.

Brenda S. Bowen,
Army Federal Register Liaison Officer.

[FR Doc. E8-27828 Filed 11-21-08; 8:45 am]

BILLING CODE 3710-08-P